DEPARTMENT OF THE INTERIOR

National Park Service

36 CFR Parts 5 and 13

RIN 1024-AC58

National Park System Units in Alaska; Denali National Park and Preserve, Special Regulations

AGENCY: National Park Service, Interior.

ACTION: Proposed rule; reopening and extension of public comment period.

SUMMARY: In response to requests the NPS is extending the public comment period on this proposed rule published November 12, 1999 (64 FR 61563-61572) from January 11, 2000 to January 25, 2000.

DATES: Written comments will be accepted through January 25, 2000.

ADDRESSES: Address comments to: Superintendent, Denali National Park and Preserve, PO Box 9, Denali National Park, AK 99755. Attention: Chief Ranger.

FOR FURTHER INFORMATION CONTACT: Ken Kehrer at the above address or by calling 907-683-2294.

SUPPLEMENTARY INFORMATION: The NPS extends the public comment period for the proposed rule—National Park System Units in Alaska; Denali National Park and Preserve, Special Regulations. The comment period was to end on January 11, 2000 but is being extended by this announcement until January 25, 2000. All comments on the proposed rule must be received at Denali National Park headquarters by close of business that day. We are taking this action in response to comments received requesting additional time to review the proposed regulation.

Dated: January 11, 2000.
Donald J. Barry,
Assistant Secretary for Fish and Wildlife and Parks.

[FR Doc. 00-1074 Filed 1-18-00; 8:45 am]

BILLING CODE 4310-70-M